NATIONAL AERONAUTICS AND SPACE ADMINISTRATION

[Notice (03-050)]

Aerospace Safety Advisory Panel (ASAP); Meeting

AGENCY: National Aeronautics and Space Administration.

ACTION: Notice of meeting.

SUMMARY: In accordance with the Federal Advisory Committee Act, Public Law 92-463, as amended, the National Aeronautics and Space Administration announces a forthcoming meeting of the Aerospace Safety Advisory Panel.

DATES: Wednesday, May 28, 2003, 1 p.m. to 2 p.m. Eastern Time.

ADDRESSES: National Aeronautics and Space Administration Headquarters, 300 E Street, SW., Room 6H46A, Washington, DC 20546.

FOR FURTHER INFORMATION CONTACT: Mr. Leonard B. Sirota, Executive Director, Aerospace Safety Advisory Panel, Code Q-1, National Aeronautics and Space Administration, Washington, DC 20546, 202/358-0914.

SUPPLEMENTARY INFORMATION: This meeting will be conducted via telecon with Panel members and consultants. This meeting will be open to the public up to the seating capacity of the room (45). The Aerospace Safety Advisory Panel is performing an evaluation of the safety upgrades for the T-38 aircraft. Visitors will be requested to sign a visitor's register and asked to comply with NASA security requirements, including the presentation of a valid picture ID before receiving an access badge. Foreign Nationals attending this meeting will be required to provide the following information: Full name; gender; date/place of birth; citizenship; Green card/via information (number, type, expiration date); passport information (number, country, expiration date); employer/affiliation information (name of institution, address, country, phone); and title/position of visitor. To expedite admittance, attendees can provide identifying information in advance by contacting Ms. Michele Dodson via e-mail at Michele.D.Dodson@nasa.gov or by telephone at (202) 358-0914.

June W. Edwards,
Advisory Committee Management Officer, National Aeronautics and Space Administration.

[FR Doc. 03-11817 Filed 5-12-03; 8:45 am]

BILLING CODE 7510-01-U